DEPARTMENT OF ENERGY

Federal Energy Regulatory Commission

[Docket No. RP91-229-029]

Panhandle Eastern Pipe Line Company; Notice of Compliance Filing

May 11, 2000.

Take notice that on May 4, 2000, Panhandle Eastern Pipe Line Company (Panhandle) tendered for filing as part of its FERC Gas Tariff, First Revised Volume No. 1, the following revised tariff sheet to be effective June 1, 2000:

1st Rev Twenty-Third Rev Sheet No. 19

Panhandle states that the purpose of this filing is to comply with the Commission's Letter received onMay 3, 2000 in Docket No. RP91-229-028 to correct the pagination.

Panhandle states that copies of this filing are being servd on all affected customers, applicable state regulatory agencies and parties to this proceeding.

Any person desiring to protest this filing should file a protest with the Federal Energy Regulatory Commission, 888 First Street, NE, Washington, DC 20426, in accordance with Section 385.211 of the Commission's Rules and Regulations. All such protests must be filed as provided in section 154.210 of the Commission's Regulations. Protests will be considered by the Commission in determining the appropriate action to be taken, but will not serve to make protestants parties to the proceedings. Copies of this filing are on file with the Commission and are available for public inspection in the Public Reference Room. This filing may be viewed on the web at http://www.ferc.fed.us/online/rims.htm (call 202-208-2222 for assistance).

David P. Boergers,
Secretary.

[FR Doc. 00-12264 Filed 5-15-00; 8:45 am]

BILLING CODE 6717-01-M